DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) has removed from OFAC's Specially Designated Nationals and Blocked Persons List (SDN List) the names of persons whose property and interests in property had been blocked pursuant to Zimbabwe sanctions authorities.

DATES: See SUPPLEMENTARY INFORMATION for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

Effective March 4, 2024, Executive Order (E.O.) 13288 of March 6, 2003, “Blocking Property of Persons Undermining Democratic Processes or Institutions in Zimbabwe,” E.O. 13391 of November 22, 2005, “Blocking Property of Additional Persons Undermining Democratic Processes or Institutions in Zimbabwe,” and E.O. 13469 of July 25, 2008, “Blocking Property of Additional Persons Undermining Democratic Processes or Institutions in Zimbabwe” (collectively “the Orders”) were revoked pursuant to the Executive Order on the “Termination of Emergency with Respect to the Situation in Zimbabwe.” As a result of the revocation of the Orders, effective March 4, 2024, the persons listed below are no longer subject to the blocking provisions of the Orders, and therefore were removed from the SDN List.

Individuals

1. CHARAMBA, George; DOB 04 Apr 1963; Passport AD001255 (Zimbabwe); Permanent Secretary, Zimbabwean Ministry of Information and Publicity (individual) [ZIMBABWE].

2. CHARUMBIRA, Fortune Zefanaya; DOB 10 Jun 1962; Member of Parliament & Central Committee Member (individual) [ZIMBABWE].

3. CHIHURI, Augustine; DOB 10 Mar 1953; Passport AD000206 (Zimbabwe); Police Commissioner (individual) [ZIMBABWE].

4. CHINAMASA, Monica, 6B Honeybear Lane, Borrowdale, Zimbabwe; DOB circa 1950; Spouse of Patrick Chinamasa (individual) [ZIMBABWE].

5. CHINAMASA, Patrick, 6B Honeybear Lane, Borrowdale, Zimbabwe; DOB 25 Jan 1947; Minister of Justice, Legal and Parliamentary Affairs (individual) [ZIMBABWE].

6. CHIWESHE, George; DOB 04 Jun 1953; Chairman of Zimbabwe Electoral Commission (individual) [ZIMBABWE].

7. CHIWEWE, Willard, Private Bag 7713, Causeway, Harare, Zimbabwe; DOB 19 Mar 1949; Masvingo Provincial Governor (individual) [ZIMBABWE].

8. GONO, Gideon; DOB 29 Nov 1959; Passport AD000854 (Zimbabwe); Governor of the Reserve Bank of Zimbabwe (individual) [ZIMBABWE].

9. KASUKUWERE, Savior, 78 Enterprise Road, Chisipite, Harare, Zimbabwe; DOB 23 Oct 1970; Deputy Minister for Youth Development and Employment Creation & Deputy Secretary for Youth Affairs (individual) [ZIMBABWE].

10. KECHIK, Mahmood Awang, Ampang Puteri Specialist Hospital, 1, Jalan Mamanda 9, Selangor Darul Ehsan 68000, Malaysia; DOB 22 Aug 1954; alt. nationality Malaysia; alt. citizen Malaysia; Dr. (individual) [ZIMBABWE].

11. MADE, Joseph Mtakwese; DOB 21 Nov 1954; Passport AN000144 (Zimbabwe); Minister of Agriculture (individual) [ZIMBABWE].

12. MADZONGWE, Edna; DOB 11 Jul 1945; Deputy Speaker of Parliament (individual) [ZIMBABWE].

13. MAGWIZI, Nqobile, Unwinsdale Dr., Corner Luna Road, Plot 134, Harare, Zimbabwe; DOB 22 Jan 1979; POB Gokwe, Zimbabwe; nationality Zimbabwe; citizen Zimbabwe; Gender Male; Passport FN557746 (Zimbabwe) expires 19 Feb 2028; National ID No. 6310449T26 (Zimbabwe); Project Coordinator Sakunda Holdings (individual) [ZIMBABWE] (Linked To: SAKUNDA HOLDINGS).

14. MALINGA, Joshua; DOB 28 Apr 1944; Deputy Secretary for Disabled and Disadvantaged (individual) [ZIMBABWE].

15. MASUKU, Angeline; DOB 14 Oct 1936; Matebeleland South Provincial Governor & Politburo Secretary for Gender and Culture (individual) [ZIMBABWE].

16. MATHEMA, Cain; DOB 28 Jan 1948; Bulawayo Provincial Governor (individual) [ZIMBABWE].

17. MATIBIRI, Innocent Tonderai; DOB 09 Oct 1968; Deputy Police Commissioner (individual) [ZIMBABWE].

18. MATONGA, Bright; DOB circa 1969; Deputy Minister of Information and Publicity (individual) [ZIMBABWE].

19. MATSHALAGA, Obert; DOB 21 Apr 1951; Deputy Minister of Foreign Affairs (individual) [ZIMBABWE].

20. MNANGAGWA, JR., Emmerson Dambudzo, 41 Dacomb Drive, Chisipite, Harare, Zimbabwe; DOB 20 Dec 1984; POB Harare, Zimbabwe; nationality Zimbabwe; citizen Zimbabwe; Gender Male; Passport AD005865 (Zimbabwe) expires 25 Feb 2023; National ID No. 632149596A67 (Zimbabwe) (individual) [ZIMBABWE] (Linked To: MNANGAGWA, Emmerson Dambudzo).

21. MOHADI, Kembo Campbell Dugishi; DOB 15 Nov 1949; Minister of Home Affairs (individual) [ZIMBABWE].

22. MOYO, Jonathan Nathaniel; DOB 12 Jan 1957; Passport AD000432 (Zimbabwe); Member of Parliament for Tsholotsho & Former Minister of Information and Publicity (individual) [ZIMBABWE].

23. MPOFU, Obert Moses; DOB 12 Oct 1951; Passport ZD001549 (Zimbabwe); Deputy Secretary for National Security (individual) [ZIMBABWE].

24. MUCHINGURI, Natasha, 2 Tender Road, Highlands, Harare, Zimbabwe; DOB circa 1994; Child of Oppah Muchinguri (individual) [ZIMBABWE].

25. MUCHINGURI, Tanya, 2 Tender Road, Highlands, Harare, Zimbabwe; DOB circa 1989; Child of Oppah Muchinguri (individual) [ZIMBABWE].

26. MUDEDE, Tobaiwa (a.k.a. “TONNETH”); DOB 22 Dec 1942; Registrar General (individual) [ZIMBABWE].

27. MUGABE, Grace; DOB 23 Jul 1965; Passport AD001159 (Zimbabwe); Spouse of Robert Mugabe (individual) [ZIMBABWE].

28. MUGABE, Robert Gabriel; DOB 21 Feb 1924; Passport AD002119 (Zimbabwe); President of the Republic of Zimbabwe (individual) [ZIMBABWE].

29. MUGABE, Leo (a.k.a. “CDE MUGABE”), 72 Green Groove Drive, Greendale, Harare, Zimbabwe; DOB 28 Feb 1957; alt. DOB 28 Aug 1962; MP for Makonde; Nephew of Robert MUGABE (individual) [ZIMBABWE].

30. MUJURU, Joyce Teurai Ropa; DOB 15 Apr 1955; Second Vice President (individual) [ZIMBABWE].

31. MUMBENGEGWI, Samuel Simbarashe Simbanenduku, 22 Stour Road, Vainona, Borrowdale, Harare, Zimbabwe; DOB 20 Jul 1945; Non-Constituency Member of Parliament (individual) [ZIMBABWE].

32. MUSHOHWE, Christopher Chindoti; DOB 06 Feb 1954; Minister of Transport and Communications (individual) [ZIMBABWE].

33. MUTASA, Didymus Noel Edwin; DOB 27 Jul 1935; Minister of State for National Security (individual) [ZIMBABWE].

34. MUTINHIRI, Ambrose; DOB 22 Feb 1944; Passport AD000969 (Zimbabwe); Minister of Youth Development and Employment Creation (individual) [ZIMBABWE].

35. MUZENDA, Tsitsi; DOB 22 Aug 1922; Politburo Senior Committee Member (individual) [ZIMBABWE].

36. MUZONZINI, Elisha; DOB 24 Jun 1957; Passport AD000648 (Zimbabwe); Former Director of the Central Intelligence Organization (individual) [ZIMBABWE].

37. NCUBE, Abedinico; DOB 13 Mar 1954; Deputy Minister of Public Service, Labor and Social Welfare (individual) [ZIMBABWE].

38. NDLOVU, Richard; DOB 26 Jun 1942; Politburo Deputy Commissariat (individual) [ZIMBABWE].

39. NHEMA, Chenayaimoyo Dunstan Francis, 3 Farthinghill Road, Borrowdale, Harare, Zimbabwe; DOB 17 Apr 1959; Passport AD000966 (Zimbabwe); Minister of Environment and Tourism (individual) [ZIMBABWE].

40. NYAMBUYA, Michael Rueben; DOB 23 Jul 1955; Passport AN045019 (Zimbabwe); Minister of Energy and Power Development (individual) [ZIMBABWE].

41. PA, Sam (a.k.a. HUI, Samo; a.k.a. JINGHUA, Xu; a.k.a. KING, Sam; a.k.a. KYUNG-WHA, Tsui; a.k.a. LEUNG, Ghiu Ka; a.k.a. MENEZES, Antonio Famtosonghiu Sampo); DOB 28 Feb 1958; nationality China; citizen Angola; alt. citizen United Kingdom; Passport C234897(0) (United Kingdom) (individual) [ZIMBABWE].

42. PARIRENYATWA, David Pagwese, P.O. Box 66222, Kopje, Harare, Zimbabwe; DOB 02 Aug 1950; Passport AD000899 (Zimbabwe); Minister of Health and Child Welfare (individual) [ZIMBABWE].

43. SANYATWE, Anselem Nhamo, Zimbabwe; Tanzania; DOB 21 Jan 1956; Gender Male; Passport 290060361Y34 (Zimbabwe) expires 23 Jun 2024 (individual) [ZIMBABWE].

44. SEKERAMAYI, Sidney Tigere, 31 Honey Bear Lane, Borrowdale, Harare, Zimbabwe; DOB 30 Mar 1944; Minister of Defense (individual) [ZIMBABWE].

45. SEKERAMAYI, Tsitsi Chihuri, 31 Honey Bear Lane, Borrowdale, Harare, Zimbabwe; DOB circa 1944; Spouse of Sydney Sekeramayi (individual) [ZIMBABWE].

46. SHAMU, Webster Kotiwani, 1 Uplands Close, Highlands, Zimbabwe; DOB 06 Jun 1945; Passport AN203141 (Zimbabwe) expires 15 Jan 2011; Minister of Policy Implementation (individual) [ZIMBABWE].

47. TOMANA, Johannes, Office of Attorney General, Private Bag 7714, Causeway, Harare, Zimbabwe; DOB 09 Sep 1967; National ID No. 50-036322F 50 (Zimbabwe); Attorney General (individual) [ZIMBABWE].

48. ZERENIE, Jimmy; nationality Singapore; Passport E0840452D (Singapore); Identification Number 264/2005 (Singapore) (individual) [ZIMBABWE].

49. ZHUWAO, Patrick; DOB 23 May 1967; Deputy Minister of Science and Technology (individual) [ZIMBABWE].

50. ZHUWAO, Beauty Lily; DOB 10 Jan 1965; Passport AN353466 (Zimbabwe); Spouse of Patrick Zhuwao (individual) [ZIMBABWE].

Entities

1. ALLAN GRANGE FARM, Chegutu, Zimbabwe [ZIMBABWE].

2. AUCHENBURG FARM, Nyamandlovu, Zimbabwe [ZIMBABWE].

3. BAMBOO CREEK FARM, Shamva, Zimbabwe [ZIMBABWE].

4. BOURNE FARM, Chegutu, Zimbabwe [ZIMBABWE].

5. COLD COMFORT FARM TRUST CO-OPERATIVE, 7 Cowie Road, Tynwald, Harare, Zimbabwe; P.O. Box 6996, Harare, Zimbabwe [ZIMBABWE].

6. COMOIL (PVT) LTD, 2nd Floor, Travel Plaza, 29 Mazoe St., Box CY2234, Causeway, Harare, Zimbabwe; Block D, Emerald Hill Office P, Emerald Park, Harare, Zimbabwe [ZIMBABWE].

7. CORBURN 13 FARM, Chegutu, Zimbabwe [ZIMBABWE].

8. DIVINE HOMES (a.k.a. DIVINE HOMES (PVT) LTD), 31 Kensington, Highlands, Harare, Zimbabwe; Shop # 6, Hillside Shopping Center, Harare, Zimbabwe; 12 Meredith Drive, Eastlea, Harare, Zimbabwe [ZIMBABWE].

9. EIRIN FARM, Marondera, Zimbabwe [ZIMBABWE].

10. EYRIE FARM, Mashvingo, Zimbabwe [ZIMBABWE].

11. FAMBA SAFARIS, 4 Wayhill Lane, Umwisdale, Harare, Zimbabwe; P.O. Box CH273, Chisipite, Harare, Zimbabwe [ZIMBABWE].

12. FOUNTAIN FARM, Insiza, Zimbabwe [ZIMBABWE].

13. HARMONY FARM, Mazowe, Zimbabwe [ZIMBABWE].

14. JONGWE PRINTING AND PUBLISHING COMPANY (a.k.a. JONGWE PRINTING & PUBLISHING COMPANY (PVT) LTD; a.k.a. JONGWE PRINTING AND PUBLISHING CO; a.k.a. JONGWE PRINTING AND PUBLISHING COMPANY (PVT) LTD), 14 Austin Road, Coventry Road, Workington, Harare, Zimbabwe; Po Box 5988, Harare, Zimbabwe [ZIMBABWE].

15. LITTLE CONNEMARA 1 FARM, Nyanga, Zimbabwe [ZIMBABWE].

16. LOCHINVAR FARM, Mashvingo, Zimbabwe [ZIMBABWE].

17. LOT 3A OF DETE VALLEY FARM, Lupane, Zimbabwe [ZIMBABWE].

18. LOTHAIN FARM, Gutu, Zimbabwe [ZIMBABWE].

19. M & S SYNDICATE (PVT) LTD. (a.k.a. M AND S SYNDICATE (PVT) LTD.), First Floor, Victory House, 88 Robert Mugabe Road, Harare, Zimbabwe; P.O. Box 1275, Harare, Zimbabwe [ZIMBABWE].

20. MARANGE RESOURCES (PRIVATE) LIMITED (f.k.a. BLOCK WOOD MINING; a.k.a. MARANGE RESOURCES; a.k.a. MARANGE RESOURCES LTD), MMCZ Building, 90 Mutare Road, Harare, Zimbabwe; P.O. Box 4101, Harare, Zimbabwe [ZIMBABWE].

21. MARONDERA MAPLE LEAF FARM, Zimbabwe [ZIMBABWE].

22. MBADA DIAMONDS (PRIVATE) LIMITED (a.k.a. CONDURANGO; a.k.a. CONDURANGO INVESTMENTS PVT LTD; a.k.a. MBADA; a.k.a. MBADA DIAMOND MINING; a.k.a. MBADA DIAMONDS), New Office Park, Block C, Sam Levy's Village, Borrowdale, Harare, Zimbabwe; P.O. Box CY1342, Causeway, Harare, Zimbabwe [ZIMBABWE].

23. MINERALS MARKETING CORPORATION OF ZIMBABWE (a.k.a. MMCZ), 90 Mutare Road, Harare, Zimbabwe; P.O. Box 2628, Harare, Zimbabwe; Phone No. 263-4-486946; Fax No. 263-4-487261 [ZIMBABWE].

24. OLDHAM FARM, Chegutu, Zimbabwe [ZIMBABWE].

25. OSLEG (a.k.a. OPERATION SOVEREIGN LEGITIMACY; a.k.a. OSLEG (PVT.) LTD.; a.k.a. OSLEG ENTERPRISES; a.k.a. OSLEG MINES; a.k.a. OSLEG MINING AND EXPLORATION; a.k.a. OSLEG VENTURES), Lonhoro House, Union Avenue, Harare, Zimbabwe [ZIMBABWE].

26. PATTERSON FARM, Mazowe, Zimbabwe [ZIMBABWE].

27. PIMENTO FARM, Mashonaland, Zimbabwe [ZIMBABWE].

28. R/E OF AUDREY FARM, Zimbabwe [ZIMBABWE].

29. SINO ZIM DEVELOPMENT (PVT) LTD (a.k.a. SINO ZIM HOLDINGS (PVT) LTD; a.k.a. SINO ZIMBABWE COTTON HOLDINGS), 3rd Floor, Livingstone House, 48 Samora Machel Avenue, Harare, Zimbabwe; PO Box 7520, Harare, Zimbabwe; Telephone: (04) 710043 [ZIMBABWE].

30. SPRING SP FARM, Mashvingo, Zimbabwe [ZIMBABWE].

31. ULVA FARM, Marondera, Zimbabwe [ZIMBABWE].

32. UMGUZA BLOCK FARM, Umguza, Zimbabwe [ZIMBABWE].

33. ZIDCO HOLDINGS (a.k.a. ZIDCO HOLDINGS (PVT) LTD), 88 Robert Mugabe Road, Harare, Zimbabwe; Po Box 1275, Harare, Zimbabwe [ZIMBABWE].

34. ZIMBABWE DEFENCE INDUSTRIES (PVT) LTD., 10th Floor, Trustee House, 55 Samora Machel Avenue, Harare, Zimbabwe; P.O. Box 6597, Harare, Zimbabwe [ZIMBABWE].

35. ZIMBABWE IRON AND STEEL COMPANY (a.k.a. ZISCO; a.k.a. ZISCOSTEEL), Private Bag 2, Redcliff Zimbabwe, Zimbabwe; Phone No. 263-55-62401; Fax No. 263-55-68666 [ZIMBABWE].

36. ZIMBABWE MINING DEVELOPMENT CORPORATION (a.k.a. ZIMBABWE MINING DEVELOPMENT CORP.; a.k.a. ZMDC), MMCZ Building, 90 Mutare Rd., Harare, Zimbabwe; P.O. Box 4101, Harare, Zimbabwe; Phone No. 263-4-487014; Fax No. 263-4-487022 [ZIMBABWE].

Dated: March 4, 2024.
Bradley T. Smith,
Director, Office of Foreign Assets Control, U.S. Department of the Treasury.

[FR Doc. 2024-04871 Filed 3-6-24; 8:45 am]

BILLING CODE 4810-AL-P